DEPARTMENT OF HOUSING AND URBAN DEVELOPMENT

[Docket No. FR-4922-N-16; HUD-2006-0179]

Privacy Act of 1974; Establishment of a New System of Records

AGENCY: Department of Housing and Urban Development, HUD.

ACTION: Notification of the Establishment of a New Privacy Act System of Records.

SUMMARY: Pursuant to the provisions of the Privacy Act of 1974 (5 U.S.C. 552a), as amended, the Department of Housing and Urban Development HUD is giving notice that it proposes to establish a new system of records entitled: HUD Central Accounting and Program System (HUDCAPS, A-75). The information in this system will be used to monitor payments and collections from HUD employees and persons doing business with HUD.

DATES: Effective Date: This action will be effective without further notice on July 27, 2006 unless comments are received that would result in a contrary determination.

Comments Due Date: July 27, 2006.

ADDRESSES: Interested persons are invited to submit comments regarding this new system of records to the Rules Docket Clerk, Office of General Counsel, Department of Housing and Urban Development, 451 Seventh Street, SW., Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: Jeanette Smith, Departmental Privacy Act Officer, Telephone Number (202) 708-2374, or Gail B. Dise, Assistant Chief Financial Officer for Systems, Telephone Number (202) 708-0614, x3749. (These are not toll free numbers.) A telecommunications device for hearing and speech-impaired persons (TTY) is available at (800) 877-8339 (Federal Information Relay Services). (This is a toll-free number).

SUPPLEMENTARY INFORMATION: Pursuant to the Privacy Act of 1974 (5 U.S.C. 552a), as amended, notice is given that HUD proposes to establish a new system of records identified as HUD Central Accounting and Program System (HUDCAPS-A75). Title 5 U.S.C. 552a(e)(4) and (11) provide that the public be afforded a 30-day period in which to comment on the new record system. The new system report, as required by 5 U.S.C. 552a(r) of the Privacy Act was submitted to the Committee on Homeland Security and Governmental Affairs of the United States Senate, the Committee on Government Reform of the House of Representatives and the Office of Management Budget (OMB) pursuant to paragraph 4c of Appendix I to OMB Circular No. A-130, Federal Agency Responsibilities for Maintaining Records About Individuals, dated June 25, 1993 (58 FR 36075, July 2, 1993).

Authority: 5 U.S.C. 552a; 88 Stat. 1896; 42 U.S.C. 3535(d).

Dated: May 30, 2006.
Lisa Schlosser,
Chief Information Officer.

HUD/CFO/01

System name:

HUD Central Accounting and Program System (HUDCAPS, A-75).

System location:

HUD Headquarters and field offices. For a complete listing of these offices, with addresses, see Appendix A.

Categories of individuals covered by the system:

Grant, subsidy, project, and loan recipients; HUD personnel; vendors; brokers; bidders; managers; individuals within Disaster Assistance Programs: builders, developers, contractors, and appraisers; subjects of audits.

Categories of records in the system:

Funds control records, receivable records; purchase order and contract records; travel records including orders, vouchers, and advances; payment vouchers records; deposit and receipt records; disbursement and cancelled check records, general ledger records.

Authority for maintenance of the system:

Sec. 113 of the Budget and Accounting Act of 1950 31 U.S.C. 66a. (Pub. L. 81-784).

Purpose(s):

The purpose of this system of records is to affect and account for payments to and collections from HUD employees and persons doing business with HUD.

Routine uses of records maintained in the system, including categories of users and the purposes of such uses:

In addition to those disclosures generally permitted under 5 U.S.C. 552a(b) of the Privacy Act, other routine uses are as follows:

(a) To the U.S. Treasury—for disbursements and adjustments thereof;

(b) To the Internal Revenue Service—for reporting payments for goods and services and for reporting of discharge indebtedness;

(c) To the Department of the Treasury to conduct computer matching programs for the purpose of identifying individuals who are receiving federal salaries or benefit payments and are delinquent in their repayment of debts owed to the U.S. Government in order to collect the debts under the provisions of the Debt Collection Improvement Act of 1996 (Pub. Law 104-134) by administrative or salary offset procedures;

(d) To any other federal agency for the purpose of effecting administrative or salary offset procedures against a person employed by the agency or receiving or eligible to receive some benefit payments from the agency when HUD as a creditor has a claim against that person;

(e) To the Internal Revenue Service by computer matching to obtain the mailing address of a taxpayer for the purpose of locating such taxpayer to collect or to compromise a Federal claim by HUD against the taxpayer pursuant to 26 U.S.C. 6103(m)(2) and in accordance with 31 U.S.C. 3711, 3217, and 3718;

(f) To a credit reporting agency for the purpose of either adding to a credit history file or obtaining a credit history file on an individual for use in the administration of debt collection;

(g) To the U.S. Government Accountability Office (GAO), Department of Justice, United States Attorney, or other federal agencies for further collection action on any delinquent account when circumstances warrant;

(h) To a debt collection agency for the purpose of collection services to recover monies owned to the U.S. Government under certain programs or services administered by HUD;

(i) To any other federal agency including, but not limited to the Internal Revenue Service (IRS) pursuant to 31 U.S.C. 3720A, for the purpose of effecting an administrative offset against the debtor for a delinquent debt owned to the U.S. Government by the debtor;

(j) To the Resolution Trust Corporation—to prescreen potential contractors for bad debts prior to acquiring their services;

(k) To other federal agencies—for the purpose of debt collection.

Disclosure to consumer reporting agencies:

Disclosures pursuant to 5 U.S.C. 552a(b)(12). Pursuant to 5 U.S.C. 552a(b)(12), disclosures may be made from the record system to consumer reporting agencies as defined in the Fair Credit Reporting Act (15 U.S.C. 1681a(f) or the Federal Claims Collection Act of 1966, 31 U.S.C. 3701(a)(3)). The disclosure is limited to information necessary to establish the identity of the individual, including name, address and taxpayer identification number (Social Security Number); the amount, status, and history of the claim, and the agency or program under which the claim arose for the sole purpose of allowing the consumer reporting agency to prepare a credit report.

Policies and practices for storing, retrieving, accessing, retaining, and disposing of records in the system:

Storage:

Electronic files on magnetic tape/disc/drum.

Retrievability:

By Social Security number; name; schedule number; control number; receipt number; voucher number; contract number.

Safeguards employed include:

Background screening, limited authorizations and access, security guards; computer records are maintained in secure areas with access limited to authorized personnel and technical restraints employed with regard to accessing the records; access to automated systems by authorized users by passwords and code identification cards.

Retention and disposal:

Are in accordance with GSA schedules of retention and disposal.

System Manager(s)and address:

Assistant Chief Financial Office for Systems, Office of the Chief Financial Officer, Department of Housing and Urban Development, 451 Seventh Street SW., Washington, DC 20410.

Notification procedure:

For information assistance, or inquiry about existence of records, contact the Privacy Act Officer at the appropriate location, in accordance with 24 CFR part 16. A list of all locations is given in Appendix A.

Record access procedures:

The Department's rule for providing access to records to the individual concerned appears in 24 CFR part 16. If additional information or assistance is required, contact the Privacy Act Officer at the appropriate location. A list of all locations is given in Appendix A.

Contesting record procedures:

The procedures for requesting amendment or correction of records appear in 24 CFR part 16. If additional information or assistance is required, contact the Privacy Act Appeals Officer, Office of General Counsel, Department of Housing and Urban Development, 451 Seventh Street, SW., Washington, DC 20410-0500.

Record source categories:

Subject individuals; other individuals; financial institutions, private corporations or firms doing business with HUD; federal and non-federal governmental agencies; HUD personnel.

Exemptions from certain provisions of the Act:

None.

[FR Doc. E6-10082 Filed 6-26-06; 8:45 am]

BILLING CODE 4210-67-P